DEPARTMENT OF HEALTH AND HUMAN SERVICES

Centers for Disease Control and Prevention

Draft Guideline for Prevention of Catheter-Associated Urinary Tract Infections 2008 [Correction]

The notice “Draft Guideline for Prevention of Catheter-Associated Urinary Tract Infections 2008,” was published in the Federal Register on June 3rd, 2009, (Vol. 74 FR No. 105). This notice is corrected as follows: On page 26704 first column, under SUMMARY, the Web site should read: http://wwwn.cdc.gov/publiccomments/.

Dated: June 4, 2009.
James D. Seligman,
Chief Information Officer, Centers for Disease Control and Prevention.

[FR Doc. E9-13694 Filed 6-10-09; 8:45 am]

BILLING CODE 4163-18-P